DEPARTMENT OF HEALTH AND HUMAN SERVICES

Substance Abuse and Mental Health Services Administration

Agency Information Collection Activities: Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Treatment Episode Data Set (TEDS) (OMB No. 0930-0335)—Revision

The Center for Behavioral Health Statistics and Quality (CBHSQ) at the Substance Abuse and Mental Health Services Administration (SAMHSA) is requesting an extension with changes to the combined data collection of the Treatment Episode Data Set (TEDS), the Mental Health Client Level Data (MH-CLD), and the Mental Health Treatment Episode Data Set (MH-TEDS) (OMB No. 0930-0335), which expires on December 31, 2024.

TEDS collects episode-level data on clients aged 12 and older receiving substance use treatment services from publicly funded facilities. MH-CLD collects demographic, clinical, and National Outcome Measures data on clients receiving mental health and support services funded or operated by the State Mental Health Agencies (SMHAs). MH-TEDS is an alternative reporting method to MH-CLD. It collects episode-level data on clients receiving mental health treatment services from publicly funded facilities. MH-TEDS data can be converted to MH-CLD format.

Under section 505 of the Public Health Service Act (42 U.S.C. 290aa-4), CBHSQ is authorized to collect annual data on the national incidence and prevalence of the various forms of mental illness and substance abuse. CBHSQ is also authorized to collect data on the number and variety of public and nonprofit private mental health and substance use treatment programs and the number and demographic characteristics of individuals receiving treatment through such programs. In addition, States, receiving fundings from SAMHSA's Community Mental Health Services Block Grant (MHBG) and Substance Use Prevention, Treatment, and Recovery Services Block Grant (SUPTRS BG) (formally known as the Substance Abuse Prevention and Treatment Block Grant (SABG), utilize TEDS and MH-CLD/MH-TEDS data to meet the block grant reporting mandate and requirement.

SAMHSA is requesting OMB approval of revisions to the TEDS/MH-CLD/MH- TEDS data collections, to include changes to the following instruments:

Proposed changes to TEDS/MH-TEDS:

• Add a combined TEDS/MH-TEDS State Crosswalk to map the data elements, codes, and categories in the state system to the appropriate TEDS/MH-TEDS data elements, codes, and categories; to obtain contextual information, including state data collection protocol and reporting capabilities and data footnotes; and to collect information on the state TEDS/MH-TEDS reporting characteristics, framework, and scope.

• Add Fentanyl and Xylazine in the list of Detailed Drug Code to improve the comprehensiveness and greater details of the substance recorded.

• Remove the term “Crack” from the existing option of “Cocaine/Crack” under the “Substance Use” data field.

• Revise existing “Gender” data field to “Sex” and add “Sexual Orientation” and “Gender Identity” (SOGI) under the SuDS section to provide inclusive measures. This revision aligns with both SAMHSA's efforts in enhancing behavioral health equities among diverse populations and the latest OMB approved BG Reporting requirement (OMB No. 0930-0168). All SUPTRS BG tables which collect/report gender and sexual orientation information have been updated and OMB approved.

• Revise terms with negative connotations to non-stigmatizing terms. Examples include changing the word “abuse” to “use,” “detoxification” to “withdrawal management,” and “Medication-Assisted Opioid Therapy” to “Medications for Opioid Use Disorder.” These revisions align with the current edition of The Diagnostic and Statistical Manual of Mental Disorders (5th ed., American Psychiatric Association, 2013), and the White House Office of National Drug Control Policy 2017 Memo on “Changing Federal Terminology regarding Substance Use and Substance Use Disorders.”

• Original “TEDS and MH-TEDS/MH-CLD Admission and Update/Discharge Data Elements” form with combined TEDS/MH-TEDS and MH-CLD data elements is separated into two documents to be more user friendly and improve clarity. Data elements are reorganized in the order of the code number to facilitate clearer mapping. Other minor modifications are made to enhance language consistency and clarity. For example, all “SABG” are updated to “SUPTRS BG.”

Proposed changes to MH-CLD:

• Add the MH-CLD State Crosswalk to map the data elements, codes, and categories in the state system to the appropriate MH-CLD data elements, codes, and categories; to obtain contextual information, including state data collection protocol and reporting capabilities, and data footnotes; and to collect information the state MH-CLD reporting characteristics, framework, and scope.

• Revise existing “Gender” data field to “Sex” and add SOGI as optional reporting data fields to provide inclusive measures. These revisions align with both SAMHSA's efforts in enhancing behavioral health equities among diverse populations and the latest OMB approved BG Reporting requirement (OMB No. 0930-0168). All MHBG tables and related URS tables which collect/report gender and sexual orientation information have been updated and OMB approved.

• Add a new “School attendance status at admission or start of the reporting period” as a required data field to assess the changes and outcomes of clients receiving mental health treatment and support services through SMHAs.

• Add optional reporting tables for Type of Funding Support, Mental Health Block Grant-Funded Services, and Veteran Status.

• Replace existing data elements “Substance Use Problem” and “Substance Abuse Diagnosis” with non-stigmatizing terms of “Substance Use Disorder” and “Substance Use Diagnosis” to help reduce stigma and support treatment for substance use disorders. These revisions align with the current edition of The Diagnostic and Statistical Manual of Mental Disorders (5th ed., American Psychiatric Association, 2013), where “abuse” has been replaced by “use.” These revisions also align with the White House Office of National Drug Control Policy 2017 Memo on “Changing Federal Terminology regarding Substance Use and Substance Use Disorders.”

• Data Elements are reorganized in the order of the code number to facilitate clearer mapping. Make minor modifications to MH-CLD data elements to enhance language consistency and clarity.

The estimated annual burden for the TEDS/MH-CLD/MH-TEDS activities is as follows:

Type of activity | Number of respondents | Responses per respondent | Total responses | Hours per response | Total burden hours | Wage rate | Total hour cost
TEDS Admission Data | 52 | 4 | 208 | 55 | 11,440 | $30.28 | $346,403
TEDS Discharge/Update Data | 52 | 4 | 208 | 55 | 11,440 | 30.28 | 346,403
TEDS State Data Crosswalk | 52 | 1 | 52 | 12 | 624 | 53.21 | 33,203
MH-CLD BCI Data | 35 | 1 | 35 | 105 | 3,675 | 30.28 | 111,279
MH-CLD SHR Data | 34 | 1 | 34 | 35 | 1,190 | 30.28 | 36,033
MH-CLD State Data Crosswalk | 35 | 1 | 35 | 24 | 840 | 53.21 | 44,696
MH-TEDS Admissions Data | 19 | 4 | 76 | 55 | 4,180 | 30.28 | 126,570
MH-TEDS Discharge/Update Data | 19 | 4 | 76 | 55 | 4,180 | 30.28 | 126,570
MH-TEDS State Data Crosswalk | 19 | 1 | 19 | 40 | 760 | 53.21 | 40,440
State Total |  |  |  |  | 38,329 |  | 1,211,597

Send comments to SAMHSA Reports Clearance Officer, 5600 Fisher Lane, Room 15E57A, Rockville, MD 20852 or email a copy to samhsapra@samhsa.hhs.gov. Written comments should be received by December 10, 2024.

Alicia Broadus,
Public Health Advisor.

[FR Doc. 2024-23611 Filed 10-10-24; 8:45 am]

BILLING CODE 4162-20-P